DEPARTMENT OF COMMERCE

National Oceanic and Atmospheric Administration

Evaluation of Old Woman Creek National Estuarine Research Reserve; Public Meeting

AGENCY: Office for Coastal Management (OCM), National Ocean Service (NOS), National Oceanic and Atmospheric Administration (NOAA), Department of Commerce (DOC).

ACTION: Notice of public meeting.

SUMMARY: The National Oceanic and Atmospheric Administration (NOAA), Office for Coastal Management will hold a public meeting to solicit comments for the performance evaluation of the Old Woman Creek National Estuarine Research Reserve.

DATES: Old Woman Creek National Estuarine Research Reserve Evaluation: The public meeting will be held on Wednesday, August 8, 2018, and written comments must be received on or before Friday, August 17, 2018.

For the specific date, time, and location of the public meetings, see SUPPLEMENTARY INFORMATION.

ADDRESSES: You may submit comments on the reserve by any of the following methods:

Public Meeting and Oral Comments: A public meeting will be held in Vermillion, Ohio for the Old Woman Creek Reserve. For the specific location, see SUPPLEMENTARY INFORMATION.

Written Comments: Please direct written comments to Ralph Cantral, Senior Advisor, NOAA Office for Coastal Management, 2234 South Hobson Avenue, Charleston, South Carolina 29405-2413, or via email to Ralph.Cantral@noaa.gov.

FOR FURTHER INFORMATION CONTACT: Ralph Cantral, Senior Advisor, Policy, NOAA Office for Coastal Management, 2234 South Hobson Avenue, Charleston, South Carolina 29405-2413, by phone at (843) 740-1143, or via email to Ralph.Cantral@noaa.gov. Copies of the previous evaluation findings, Management Plan, and Site Profile may be viewed and downloaded on the internet at http://coast.noaa.gov/czm/evaluations. A copy of the evaluation notification letter and most recent performance report may be obtained upon request by contacting the person identified under FOR FURTHER INFORMATION CONTACT.

SUPPLEMENTARY INFORMATION: Sections 312 and 315 of the Coastal Zone Management Act (CZMA) require NOAA to conduct periodic evaluations of federally-approved National Estuarine Research Reserves. The process includes a public meeting, consideration of written public comments, and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

You may participate and submit oral comments at the public meeting scheduled as follows:

Date: Wednesday, August 8, 2018.

Time: 5:00 p.m., local time.

Location: Ritter Public Library Community Room, 5680 Liberty Avenue, Vermillion, Ohio 44089.

Written comments must be received on or before August 8, 2018.

Dated: June 7, 2018.
Keelin Kuipers,
Acting Deputy Director, Office for Coastal Management, National Ocean Service, National Oceanic and Atmospheric Administration.

[FR Doc. 2018-13772 Filed 6-26-18; 8:45 am]

BILLING CODE 3510-08-P